DEPARTMENT OF THE INTERIOR

Bureau of Reclamation

Glen Canyon Adaptive Management Work Group (AMWG) and Glen Canyon Technical Work Group (TWG); Correction

AGENCY: Bureau of Reclamation, Interior.

ACTION: Notice of Public Meetings; Correction.

SUMMARY: The Bureau of Reclamation published a notice of public meetings in the Federal Register of October 19, 2000 (65 FR 62750), concerning meetings of the Glen Canyon Adaptive Management Work Group (AMWG) and Glen Canyon Technical Work Group (TWG). The document contained incorrect dates.

FOR FURTHER INFORMATION CONTACT: Randall Peterson, telephone (801) 524-3758; faxogram (801) 524-3858; E-mail at: rpeterson@uc.usbr.gov

Correction

In the Federal Register of October 19, 2000, in the FR Doc. 00-26934, on page 62750, in the first column, correct the “Dates and Location” caption to read:

DATES AND LOCATION: The AMWG will conduct two public meetings as follows:

Phoenix, Arizona—January 11-12, 2001. The meeting will begin at 9:30 a.m. and conclude at 4:00 p.m. on the first day and begin at 8 a.m. and conclude at 12 noon on the second day. The meeting will be held at the Bureau of Indian Affairs—Western Regional Office, 2 Arizona Center, Conference Rooms A and B (12th Floor), 400 North 5th Street, Phoenix, Arizona.

Dated: November 15, 2000.
Eluid L. Martinez,
Commissioner, Bureau of Reclamation.

[FR Doc. 00-29657 Filed 11-17-00; 8:45 am]

BILLING CODE 4310-MN-P